DEPARTMENT OF TRANSPORTATION

Federal Aviation Administration

14 CFR Part 71

[Docket No. 2016-8926; Amendment No. 71-48]

RIN 2120-AA66

Airspace Designations; Incorporation by Reference Amendments

AGENCY: Federal Aviation Administration (FAA), DOT.

ACTION: Final rule, technical amendment.

SUMMARY: This action incorporates certain amendments into FAA Order 7400.11A, dated August 3, 2016, and effective September 15, 2016, for incorporation by reference in 14 CFR 71.1.

DATES: Effective date 0901 UTC February 27, 2017. The Director of the Federal Register approves this incorporation by reference action under 1 CFR part 51, subject to the annual revision of FAA Order 7400.11 and publication of conforming amendments.

ADDRESSES: FAA Order 7400.11A, Airspace Designations and Reporting Points, and subsequent amendments can be viewed on line at http://www.faa.gov/airtraffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Sarah A. Combs, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order 7400.11, Airspace Designations and Reporting Points, incorporated by reference in 14 CFR 71.1, is published yearly. Amendments referred to as “effective date straddling amendments” were published under Order 7400.9Z (dated August 6, 2015, and effective September 15, 2015), but became effective under Order 7400.11A (dated August 3, 2016, and effective September 15, 2016). This action incorporates these rules into the current FAA Order 7400.11A.

Accordingly, as this is an administrative correction to update final rule amendments into FAA Order 7400.11A, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This action amends title 14 Code of Federal Regulations (14 CFR) Part 71 to incorporate certain final rules into the current FAA Order 7400.11A, Airspace Designations and Reporting Points, dated August 3, 2016, and effective September 15, 2016, which are depicted on aeronautical charts.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. Section 71.1 is revised to read as follows:

For Docket No. FAA-2015-5800; Airspace Docket No. 15-AGL-21 (81 FR 34267, May 31, 2016). On page 34267, column 1, line 32, under DATES; and on page 34267, column 1, line 53, under ADDRESSES remove “. . . FAA Order 7400.9 . . .” and add in its place “. . . FAA Order 7400.11 . . .”. On page 34267, column 1, line 35, under ADDRESSES; and on page 34267, column 2, line 49 and line 52, under Availability and Summary of Documents for Incorporation by Reference remove “. . . FAA Order 7400.9Z, . . .” and add in its place “. . . FAA Order 7400.11A, . . .”. On page 34267, column 2, line 36, under History; and on page 34267, column 2, line 46, under Availability and Summary of Documents for Incorporation by Reference; and on page 34267, column 3, line 4, under The Rule; and on page 34268, column 1, line 3, under Amendatory Instruction 2 remove “. . . FAA Order 7400.9Z, Airspace Designations and Reporting Points, dated August 6, 2015, and effective September 15, 2015, . . .” and add in its place “. . .FAA Order 7400.11A, Airspace Designations and Reporting Points, dated August 3, 2016, and effective September 15, 2016, . . .”.

For Docket No. FAA-2016-0526; Airspace Docket No. 16-ASW-3 (81 FR 34879, June 1, 2016). On page 34879, column 3, line 18, under DATES; and on page 34879, column 3, line 39, under ADDRESSES remove “. . . FAA Order 7400.9 . . .” and add in its place “. . . FAA Order 7400.11 . . .”. On page 34879, column 3, line 21 and line 34, under ADDRESSES; and on page 34880, column 1, line 58 and line 61, under Availability and Summary of Documents for Incorporation by Reference remove “ . . . FAA Order 7400.9Z, . . .” and add in its place “. . . FAA Order 7400.11A, . . .”. On page 34880, column 1, line 45, under History; and on page 34880, column 1, line 55, under Availability and Summary of Documents for Incorporation by Reference; and on page 34880, column 3, line 14, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-0525; Airspace Docket No. 16-AGL-1 (81 FR 34880, June 1, 2016). On page 34881, column 1, line 14, under DATES; and on page 34881, column 1, line 35, under ADDRESSES remove “. . . FAA Order 7400.9 . . .” and add in its place “. . . FAA Order 7400.11 . . .”. On page 34881, column 1, line 17 and line 30, under ADDRESSES; and on page 34881, column 2, line 33 and line 36, under Availability and Summary of Documents for Incorporation by Reference remove “. . . FAA Order 7400.9Z, . . .” and add in its place “. . . FAA Order 7400.11A, . . .”. On page 34881, column 2, line 20, under History; and on page 34881, column 2, line 30, under Availability and Summary of Documents for Incorporation by Reference; and on page 34881, column 3, line 49, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-0449; Airspace Docket No. 16-ASW-2 (81 FR 36140, June 6, 2016). On page 36140, column 3, line 33, under DATES; and on page 36140, column 3, line 54, under ADDRESSES remove “. . . FAA Order 7400.9 . . .” and add in its place “. . . FAA Order 7400.11 . . .”. On page 36140, column 3, line 36 and line 49, under ADDRESSES; and on page 36141, column 1, line 48 and line 51, under Availability and Summary of Documents for Incorporation by Reference remove “. . . FAA Order 7400.9Z, . . .” and add in its place “. . . FAA Order 7400.11A, . . .”. On page 36141, column 1, line 35, under History; and on page 36141, column 1, line 45, under Availability and Summary of Documents for Incorporation by Reference; and on page 36141, column 3, line 3, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-7857; Airspace Docket No. 15-ASW-22 (81 FR 36141, June 6, 2016). On page 36142, column 1, line 29, under DATES; and on page 36142, column 1, line 50, under ADDRESSES remove “. . . FAA Order 7400.9 . . .” and add in its place “. . . FAA Order 7400.11 . . .”. On page 36142, column 1, line 32 and line 45, under ADDRESSES; and on page 36142, column 3, line 12 and line 15, under Availability and Summary of Documents for Incorporation by Reference remove “. . . FAA Order 7400.9Z, . . .” and add in its place “. . . FAA Order 7400.11A, . . .”. On page 36142, column 2, line 67, under History; and on page 36142, column 3, line 9, under Availability and Summary of Documents for Incorporation by Reference; and on page 36143, column 2, line 6, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-0149; Airspace Docket No. 15-AWA-8 (81 FR 37126, June 9, 2016). On page 37126, column 3, line 14, under DATES; and on page 37126, column 3, line 34, under ADDRESSES remove “. . . FAA Order 7400.9 . . .” and add in its place “. . . FAA Order 7400.11 . . .”. On page 37126, column 3, line 16 and line 29, under ADDRESSES; and on page 37127, column 1, line 25 and line 28, under Availability and Summary of Documents for Incorporation by Reference remove “. . . FAA Order 7400.9Z, . . .” and add in its place “. . . FAA Order 7400.11A, . . .”. On page 37127, column 1, line 11, under History; and on page 37127, column 1, line 22, under Availability and Summary of Documents for Incorporation by Reference; and on page 37127, column 2, line 34, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-4452; Airspace Docket No. 15-AWA-7 (81 FR 37127, June 9, 2016). On page 37127, column 3, line 33, under DATES; and on page 37127, column 3, line 53, under ADDRESSES remove “. . . FAA Order 7400.9 . . .” and add in its place “. . . FAA Order 7400.11 . . .”. On page 37127, column 3, line 35 and line 48, under ADDRESSES; and on page 37128, column 1, line 40 and line 43, under Availability and Summary of Documents for Incorporation by Reference remove “. . . FAA Order 7400.9Z, . . .” and add in its place “. . . FAA Order 7400.11A, . . .”. On page 37128, column 1, line 37, under Availability and Summary of Documents for Incorporation by Reference; and on page 37128, column 2, line 20, under The Rule; and on page 37128, column 3, line 19, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-5573; Airspace Docket No. 16-ASO-7 (81 FR 38580, June 14, 2016). On page 38580, column 2, line 52, under DATES; and on page 38580, column 3, line 9, under ADDRESSES remove “. . . FAA Order 7400.9 . . .” and add in its place “. . . FAA Order 7400.11 . . .”. On page 38580, column 2, line 54 and column 3, line 5, under ADDRESSES; and on page 38581, column 1, line 7 and line 10, under Availability and Summary of Documents for Incorporation by Reference remove “. . . FAA Order 7400.9Z, . . .” and add in its place “. . . FAA Order 7400.11A, . . .”. On page 38580, column 3, line 59, under History; and on page 38581, column 1, line 4, under Availability and Summary of Documents for Incorporation by Reference; and on page 38581, column 2, line 19, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-3085; Airspace Docket No. 15-ASW-2 (81 FR 39182, June 16, 2016). On page 39182, column 2, line 53, under DATES; and on page 39182, column 3, line 14, under ADDRESSES remove “. . . FAA Order 7400.9 . . .” and add in its place “. . . FAA Order 7400.11 . . .”. On page 39182, column 2, line 56 and column 3, line 9, under ADDRESSES; and on page 39183, column 1, line 14 and line 17, under Availability and Summary of Documents for Incorporation by Reference remove “. . . FAA Order 7400.9Z, . . .” and add in its place “. . . FAA Order 7400.11A, . . .”. On page 39182, column 3, line 66, under History; and on page 39183, column 1, line 11, under Availability and Summary of Documents for Incorporation by Reference; and on page 39183, column 2, line 34, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-0021; Airspace Docket No. 16-ANM-1 (81 FR 39556, June 17, 2016). On page 39556, column 2, line 12, under DATES; and on page 39556, column 2, line 34, under ADDRESSES remove “. . . FAA Order 7400.9 . . .” and add in its place “. . . FAA Order 7400.11 . . .”. On page 39556, column 2, line 15 and line 28, under ADDRESSES; and on page 39556, column 3, line 31 and line 34, under Availability and Summary of Documents for Incorporation by Reference remove “. . . FAA Order 7400.9Z, . . .” and add in its place “. . . FAA Order 7400.11A, . . .”. On page 39556, column 3, line 18, under History; and on page 39556, column 3, line 28, under Availability and Summary of Documents for Incorporation by Reference; and on page 39556, column 3, line 52, under The Rule; and on page 39557, column 1, line 46, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-0071; Airspace Docket No. 16-ASO-1 (81 FR 40164, June 21, 2016). On page 40164, column 2, line 17, under DATES; and on page 40164, column 2, line 38, under ADDRESSES remove “. . . FAA Order 7400.9 . . .” and add in its place “. . . FAA Order 7400.11 . . .”. On page 40164, column 2, line 20 and line 33, under ADDRESSES; and on page 40164, column 3, line 32 and line 35, under Availability and Summary of Documents for Incorporation by Reference remove “. . . FAA Order 7400.9Z, . . .” and add in its place “. . . FAA Order 7400.11A, . . .”. On page 40164, column 3, line 18, under History; and on page 40164, column 3, line 29, under Availability and Summary of Documents for Incorporation by Reference; and on page 40165, column 1, line 54, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-8304; Airspace Docket No. 15-AEA-15 (81 FR 41211, June 24, 2016). On page 41211, column 1, line 45, under DATES; and on page 41211, column 2, line 5, under ADDRESSES remove “. . . FAA Order 7400.9 . . .” and add in its place “. . . FAA Order 7400.11 . . .”. On page 41211, column 1, line 48 and line 61, under ADDRESSES; and on page 41211, column 3, line 20 and line 23, under Availability and Summary of Documents for Incorporation by Reference remove “. . . FAA Order 7400.9Z, . . .” and add in its place “. . . FAA Order 7400.11A, . . .”. On page 41211, column 3, line 6, under History; and on page 41211, column 3, line 17, under Availability and Summary of Documents for Incorporation by Reference; and on page 41212, column 1, line 41, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-5800; Airspace Docket No. 15-AGL-21 (81 FR 41212, June 24, 2016). On page 41212, column 3, line 9, under DATES; and on page 41212, column 3, line 30, under ADDRESSES remove “. . . FAA Order 7400.9 . . .” and add in its place “. . . FAA Order 7400.11 . . .”. On page 41212, column 3, line 12, under ADDRESSES; and on page 41213, column 1, line 22 and line 25, under Availability and Summary of Documents for Incorporation by Reference remove “. . . FAA Order 7400.9Z, . . .” and add in its place “. . . FAA Order 7400.11A, . . .”. On page 41213, column 1, line 8, under History; and on page 41213, column 1, line 19, under Availability and Summary of Documents for Incorporation by Reference; and on page 41213, column 1, line 42, under The Rule; and on page 41213, column 2, line 38, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-3994; Airspace Docket No. 15-ANM-23 (81 FR 41798, June 28, 2016). On page 41798, column 1, line 61, under DATES; and on page 41798, column 2, line 20, under ADDRESSES remove “. . . FAA Order 7400.9 . . .” and add in its place “. . . FAA Order 7400.11 . . .”. On page 41798, column 2, line 1 and line 15, under ADDRESSES; and on page 41798, column 3, line 13 and line 16, under Availability and Summary of Documents for Incorporation by Reference remove “. . . FAA Order 7400.9Z, . . .” and add in its place “. . . FAA Order 7400.11A, . . .”. On page 41798, column 2, line 66, under History; and on page 41798, column 3, line 10, under Availability and Summary of Documents for Incorporation by Reference; and on page 41799, column 1, line 32, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-4234; Airspace Docket No. 16-ACE-3 (81 FR 43038, July 1, 2016). On page 43038, column 3, line 27, under DATES; and on page 43038, column 3, line 48, under ADDRESSES remove “. . . FAA Order 7400.9 . . .” and add in its place “. . . FAA Order 7400.11 . . .”. On page 43038, column 3, line 30 and line 43, under ADDRESSES; and on page 43039, column 1, line 56 and line 59, under Availability and Summary of Documents for Incorporation by Reference remove “. . . FAA Order 7400.9Z, . . .” and add in its place “. . . FAA Order 7400.11A, . . .”. On page 43039, column 1, line 43, under History; and on page 43039, column 1, line 53, under Availability and Summary of Documents for Incorporation by Reference; and on page 43039, column 3, line 19, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-4429; Airspace Docket No. 16-ASW-8 (81 FR 45407, July 14, 2016). On page 45407, column 3, line 53, under DATES; and on page 45408, column 1, line 12, under ADDRESSES remove “. . . FAA Order 7400.9 . . .” and add in its place “. . . FAA Order 7400.11 . . .”. On page 45407, column 3, line 56 and on page 45408 column 1, line 7, under ADDRESSES; and on page 45408, column 2, line 13 and line 16, under Availability and Summary of Documents for Incorporation by Reference remove “. . . FAA Order 7400.9Z, . . .” and add in its place “. . . FAA Order 7400.11A, . . .”. On page 45408, column 1, line 76, under History; and on page 45408, column 2, line 10, under Availability and Summary of Documents for Incorporation by Reference; and on page 45408, column 3, line 48, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-7203; Airspace Docket No. 15-ASO-14 (81 FR 47287, July 21, 2016). On page 47287, column 2, line 41, under DATES remove “. . . FAA Order 7400.9 . . .” and add in its place “. . . FAA Order 7400.11 . . .”. On page 47287, column 3, line 19 and, line 22, under ADDRESSES remove “. . . FAA Order 7400.9Z, . . .” and add in its place “. . . FAA Order 7400.11A, . . .”. On page 47287, column 3, line 5, under History; and on page 47287, column 3, line 16, under Availability and Summary of Documents for Incorporation by Reference remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-4291; Airspace Docket No. 16-AGL-7 (81 FR 50613, August 2, 2016). On page 50613, column 3, line 11, under DATES; and on page 450613, column 3, line 32, under ADDRESSES remove “. . . FAA Order 7400.9 . . .” and add in its place “. . . FAA Order 7400.11 . . .”. On page 50613, column 3, line 14 and line 27, under ADDRESSES; and on page 50614, column 1, line 46 and line 49, under Availability and Summary of Documents for Incorporation by Reference remove “. . . FAA Order 7400.9Z, . . .” and add in its place “. . . FAA Order 7400.11A, . . .”. On page 50614, column 1, line 33, under History; and on page 50614, column 1, line 43, under Availability and Summary of Documents for Incorporation by Reference; and on page 50614, column 3, line 26, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-4271; Airspace Docket No. 16-AGL-6 (81 FR 52761, August 10, 2016). On page 52761, column 1, line 49, under DATES; and on page 52761, column 2, line 7, under ADDRESSES remove “. . . FAA Order 7400.9 . . .” and add in its place “. . . FAA Order 7400.11 . . .”. On page 52761, column 1, line 52 and column 2, line 3, under ADDRESSES; and on page 52761, column 3, line 9 and line 12, under Availability and Summary of Documents for Incorporation by Reference remove “. . . FAA Order 7400.9Z, . . .” and add in its place “. . . FAA Order 7400.11A, . . .”. On page 52761, column 2, line 62, under History; and on page 52761, column 3, line 6, under Availability and Summary of Documents for Incorporation by Reference; and on page 52762, column 1, line 40, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-4236; Airspace Docket No. 16-ASW-5 (81 FR 52762, August 10, 2016). On page 52762, column 1, line 55, under DATES; and on page 52762, column 3, line 19, under ADDRESSES remove “. . . FAA Order 7400.9 . . .” and add in its place “. . . FAA Order 7400.11 . . .”. On page 52762, column 3, line 1 and line 14, under ADDRESSES; and on page 52763, column 1, line 11 and line 14, under Availability and Summary of Documents for Incorporation by Reference remove “. . . FAA Order 7400.9Z, . . .” and add in its place “. . . FAA Order 7400.11A, . . .”. On page 52762, column 3, line 64, under History; and on page 52763, column 1, line 8, under Availability and Summary of Documents for Incorporation by Reference; and on page 52763, column 2, line 19, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-5856; Airspace Docket No. 16-AGL-9 (81 FR 52991, August 11, 2016). On page 52991, column 3, line 34, under DATES; and on page 52991, column 3, line 55, under ADDRESSES remove “. . . FAA Order 7400.9 . . .” and add in its place “. . . FAA Order 7400.11 . . .”. On page 52991, column 3, line 37, under ADDRESSES; and on page 52992, column 1, line 51 and line 54, under Availability and Summary of Documents for Incorporation by Reference remove “. . . FAA Order 7400.9Z, . . .” and add in its place “. . . FAA Order 7400.11A, . . .”. On page 52992, column 1, line 37, under History; and on page 52992, column 1, line 48, under Availability and Summary of Documents for Incorporation by Reference; and on page 52992, column 2, line 11, under The Rule; and on page 52992, column 3, line 12, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-4629; Airspace Docket No. 16-AGL-8 (81 FR 52992, August 11, 2016). On page 52993, column 1, line 19, under DATES; and on page 52993, column 1, line 40, under ADDRESSES remove “. . . FAA Order 7400.9 . . .” and add in its place “. . . FAA Order 7400.11 . . .”. On page 52993, column 1, line 22 and line 35, under ADDRESSES; and on page 52993, column 2, line 45 and line 48, under Availability and Summary of Documents for Incorporation by Reference remove “. . . FAA Order 7400.9Z, . . .” and add in its place “. . . FAA Order 7400.11A, . . .”. On page 52993, column 2, line 32, under History; and on page 52993, column 2, line 42, under Availability and Summary of Documents for Incorporation by Reference; and on page 52994, column 1, line 18, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-5456; Airspace Docket No. 16-AGL-11 (81 FR 53262, August 12, 2016). On page 53262, column 1, line 27, under DATES; and on page 53262, column 1, line 48, under ADDRESSES remove “. . . FAA Order 7400.9 . . .” and add in its place “. . . FAA Order 7400.11 . . .”. On page 53262, column 1, line 30, under ADDRESSES; and on page 53262, column 2, line 47 and line 50, under Availability and Summary of Documents for Incorporation by Reference remove “. . . FAA Order 7400.9Z, . . .” and add in its place “. . . FAA Order 7400.11A, . . .”. On page 53262, column 2, line 33, under History; and on page 53262, column 2, line 44, under Availability and Summary of Documents for Incorporation by Reference; and on page 53262, column 3, line 2, under The Rule; and on page 53263 column 1, line 3, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-5386; Airspace Docket No. 16-AGL-12 (81 FR 53263, August 12, 2016). On page 53263, column 1, line 48, under DATES; and on page 53263, column 2, line 11, under ADDRESSES remove “. . . FAA Order 7400.9 . . .” and add in its place “. . . FAA Order 7400.11 . . .”. On page 53263, column 1, line 51, under ADDRESSES; and on page 53263, column 3, line 7 and line 10, under Availability and Summary of Documents for Incorporation by Reference remove “. . . FAA Order 7400.9Z, . . .” and add in its place “. . . FAA Order 7400.11A, . . .”. On page 53263, column 2, line 57, under History; and on page 53263, column 3, line 4, under Availability and Summary of Documents for Incorporation by Reference; and on page 53263, column 3, line 27, under The Rule; and on page 53264, column 1, line 23, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-1074; Airspace Docket No. 16-ASO-3 (81 FR 53264, August 12, 2016). On page 553264, column 2, line 8, under DATES; and on page 53264, column 2, line 29, under ADDRESSES remove “. . . FAA Order 7400.9 . . .” and add in its place “. . . FAA Order 7400.11 . . .”. On page 53264, column 2, line 11 and line 29, under ADDRESSES; and on page 53264, column 3, line 18 and line 21, under Availability and Summary of Documents for Incorporation by Reference remove “. . . FAA Order 7400.9Z, . . .” and add in its place “. . . FAA Order 7400.11A, . . .”. On page 53264, column 3, line 4, under History; and on page 53264, column 3, line 15, under Availability and Summary of Documents for Incorporation by Reference; and on page 53265, column 1, line 21, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-5387; Airspace Docket No. 16-AGL-13 (81 FR 53265, August 12, 2016). On page 53265, column 2, line 6, under DATES; and on page 53265, column 2, line 27, under ADDRESSES remove “. . . FAA Order 7400.9 . . .” and add in its place “. . . FAA Order 7400.11 . . .”. On page 53265, column 2, line 9, under ADDRESSES; and on page 53265, column 3, line 12 and line 15, under Availability and Summary of Documents for Incorporation by Reference remove “. . . FAA Order 7400.9Z, . . .” and add in its place “. . . FAA Order 7400.11A, . . .”. On page 53265, column 3, line 9, under Availability and Summary of Documents for Incorporation by Reference; and on page 53265, column 3, line 33, under The Rule; and on page 53266, column 1, line 32, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-3937; Airspace Docket No. 16-AWA-1 (81 FR 53912, August 15, 2016). On page 53912, column 2, line 26, under DATES; and on page 53912, column 2, line 46, under ADDRESSES remove “. . . FAA Order 7400.9 . . .” and add in its place “. . . FAA Order 7400.11 . . .”. On page 53912, column 2, line 28 and line 41, under ADDRESSES; and on page 53912, column 3, line 34 and line 37, under Availability and Summary of Documents for Incorporation by Reference remove “. . . FAA Order 7400.9Z, . . .” and add in its place “. . . FAA Order 7400.11A, . . .”. On page 53912, column 3, line 31, under Availability and Summary of Documents for Incorporation by Reference; and on page 53913, column 1, line 2, under The Rule; and on page 53913, column 2, line 23, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-7467; Airspace Docket No. 16-AWA-2 (81 FR 53913, August 15, 2016). On page 53913, column 3, line 27, under DATES; and on page 53913, column 3, line 48, under ADDRESSES remove “. . . FAA Order 7400.9 . . .” and add in its place “. . . FAA Order 7400.11 . . .”. On page 53913, column 3, line 30 and line 43, under ADDRESSES; and on page 53914, column 1, line 55 and line 58, under Availability and Summary of Documents for Incorporation by Reference remove “. . . FAA Order 7400.9Z, . . .” and add in its place “. . . FAA Order 7400.11A, . . .”. On page 53914, column 1, line 41, under History; and on page 53914, column 1, line 52, under Availability and Summary of Documents for Incorporation by Reference; and on page 53914, column 3, line 28, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-7416; Airspace Docket No. 16-AWA-5 (81 FR 53915, August 15, 2016). On page 53915, column 1, line 27, under DATES; and on page 53915, column 1, line 48, under ADDRESSES remove “. . . FAA Order 7400.9 . . .” and add in its place “. . . FAA Order 7400.11 . . .”. On page 53915, column 1, line 30 and line 43, under ADDRESSES; and on page 53915, column 2, line 55 and line 58, under Availability and Summary of Documents for Incorporation by Reference remove “. . . FAA Order 7400.9Z, . . .” and add in its place “. . . FAA Order 7400.11A, . . .”. On page 53915, column 2, line 41, under History; and on page 53915, column 2, line 52, under Availability and Summary of Documents for Incorporation by Reference; and on page 53916, column 1, line 30, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-3599; Airspace Docket No. 15-AGL-14 (81 FR 58382, August 25, 2016). On page 58382, column 3, line 16, under DATES; and on page 58382, column 3, line 37, under ADDRESSES remove “. . . FAA Order 7400.9 . . .” and add in its place “. . . FAA Order 7400.11 . . .”. On page 58382, column 3, line 19, under ADDRESSES; and on page 58383, column 1, line 24 and line 27, under Availability and Summary of Documents for Incorporation by Reference remove “. . . FAA Order 7400.9Z, . . .” and add in its place “. . . FAA Order 7400.11A, . . .”. On page 58383, column 1, line 21, under Availability and Summary of Documents for Incorporation by Reference; and on page 58383, column 1, line 46, under The Rule; and on page 58383, column 2, line 43, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-3785; Airspace Docket No. 16-ASW-9 (81 FR 58383, August 25, 2016). On page 58383, column 3, line 33, under DATES; and on page 58383, column 3, line 54, under ADDRESSES remove “. . . FAA Order 7400.9 . . .” and add in its place “. . . FAA Order 7400.11 . . .”. On page 58383, column 3, line 36, under ADDRESSES; and on page 58384, column 1, line 51 and line 54, under Availability and Summary of Documents for Incorporation by Reference remove “. . . FAA Order 7400.9Z, . . .” and add in its place “. . . FAA Order 7400.11A, . . .”. On page 58384, column 1, line 37, under History; and on page 58384, column 1, line 48, under Availability and Summary of Documents for Incorporation by Reference; and on page 58384, column 2, line 6, under The Rule; and on page 58384, column 3, line 6, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-7002; Airspace Docket No. 16-ACE-5 (81 FR 62002, September 8, 2016). On page 62002, column 1, line 24, under DATES; and on page 62002, column 1, line 45, under ADDRESSES remove “. . . FAA Order 7400.9 . . .” and add in its place “. . . FAA Order 7400.11 . . .”. On page 62002, column 1, line 27, under ADDRESSES; and on page 62002, column 2, line 43 and line 46, under Availability and Summary of Documents for Incorporation by Reference remove “. . . FAA Order 7400.9Z, . . .” and add in its place “. . . FAA Order 7400.11A, . . .”. On page 62002, column 2, line 29, under History; and on page 62002, column 2, line 40, under Availability and Summary of Documents for Incorporation by Reference; and on page 62002, column 2, line 63, under The Rule; and on page 62002, column 3, line 59, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-6115; Airspace Docket No. 16-AGL-14 (81 FR 62003, September 8, 2016). On page 62003, column 1, line 40, under DATES; and on page 62003, column 2, line 1, under ADDRESSES remove “. . . FAA Order 7400.9 . . .” and add in its place “. . . FAA Order 7400.11 . . .”. On page 62003, column 1, line 43, under ADDRESSES; and on page 62003, column 2, line 60 and line 63, under Availability and Summary of Documents for Incorporation by Reference remove “. . . FAA Order 7400.9Z, . . .” and add in its place “. . . FAA Order 7400.11A, . . .”. On page 62003, column 2, line 46, under History; and on page 62003, column 2, line 57, under Availability and Summary of Documents for Incorporation by Reference; and on page 62003, column 3, line 14, under The Rule; and on page 62004, column 1, line 12, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2015-4133; Airspace Docket No. 15-ANM-27 (81 FR 62807, September 12, 2016). On page 62807, column 1, line 27, under DATES; and on page 62807, column 1, line 47, under ADDRESSES remove “. . . FAA Order 7400.9 . . .” and add in its place “. . . FAA Order 7400.11 . . .”. On page 62807, column 1, line 30 and line 43, under ADDRESSES; and on page 62807, column 2, line 62 and line 65, under Availability and Summary of Documents for Incorporation by Reference remove “. . . FAA Order 7400.9Z, . . .” and add in its place “. . . FAA Order 7400.11A, . . .”. On page 62807, column 2, line 49, under History; and on page 62807, column 2, line 65, under Availability and Summary of Documents for Incorporation by Reference; and on page 62808, column 2, line 3, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

For Docket No. FAA-2016-6006; Airspace Docket No. 15-AGL-3 (81 FR 62810, September 13, 2016). On page 62810, column 1, line 38, under DATES; and on page 62810, column 1, line 59, under ADDRESSES remove “. . . FAA Order 7400.9 . . .” and add in its place “. . . FAA Order 7400.11 . . .”. On page 62810, column 1, line 41, under ADDRESSES; and on page 62810, column 2, line 57 and line 60, under Availability and Summary of Documents for Incorporation by Reference remove “. . . FAA Order 7400.9Z, . . .” and add in its place “. . . FAA Order 7400.11A, . . .”. On page 62810, column 2, line 44, under History; and on page 62810, column 2, line 54, under Availability and Summary of Documents for Incorporation by Reference; and on page 62810, column 3, line 17, under The Rule; and on page 62811, column 1, line 16, under Amendatory Instruction 2 remove “. . . FAA Order 7400.9Z, Airspace Designations and Reporting Points, dated August 6, 2015, and effective September 15, 2015, . . .” and add in its place “. . . FAA Order 7400.11A, Airspace Designations and Reporting Points, dated August 3, 2016, and effective September 15, 2016, . . .”.

Issued in Washington, DC, on February 13, 2017.
Leslie M. Swann,
Acting Manager, Airspace Policy Group.

[FR Doc. 2017-03521 Filed 2-24-17; 8:45 am]

BILLING CODE 4910-13-P